DEPARTMENT OF DEFENSE

Department of the Navy

Notice of Intent To Prepare a Supplement to the September 2018 Final Atlantic Fleet Training and Testing Environmental Impact Statement/Overseas Environmental Impact Statement for Continuation of Navy Atlantic Fleet Training and Testing Activities

AGENCY: Department of the Navy (DoN), Department of Defense (DoD).

ACTION: Notice.

SUMMARY: Pursuant to the National Environmental Policy Act (NEPA) of 1969, and regulations implemented by the Council on Environmental Quality, the Department of the Navy (DoN) (including both the U.S. Navy and the U.S. Marine Corps) in cooperation with the U.S. Coast Guard announces its intent to prepare a supplement to the 2018 Atlantic Fleet Training and Testing (AFTT) Environmental Impact Statement (EIS)/Overseas Environmental Impact Statement (OEIS). New information includes an updated acoustic effects analysis, updated marine mammal density data, and evolving and emergent best available science. Proposed activities and study area are consistent with those analyzed in the 2018 AFTT EIS/OEIS.

DATES: The 30-day public scoping period begins on November 17, 2023 and extends to December 16, 2023. Comments must be postmarked or submitted electronically via the website no later than 11:59 p.m. Eastern Time on December 16, 2023 for consideration in the Draft Supplemental EIS/OEIS.

ADDRESSES: The DoN invites all interested parties to submit scoping comments on the Supplemental EIS/OEIS to the physical address listed below and electronically through the project website at http://www.nepa.navy.mil/aftteis.

Comments can be mailed to: Naval Facilities Engineering Systems Command, Atlantic, 6506 Hampton Boulevard, Building A, Norfolk, Virginia, 23508-1278, ATTN: EV22, AFTT SEIS Project Manager.

FOR FURTHER INFORMATION CONTACT: U.S. Fleet Forces Command, 1562 Mitscher Avenue Suite 250, Norfolk, VA 23551-2487, Attn: Mr. Theodore Brown, Installations and Environment Public Affairs Officer, 757-836-4427, or visit the project website: http://www.nepa.navy.mil/aftteis.

SUPPLEMENTARY INFORMATION: The DoN's lead action proponent is U.S. Fleet Forces Command. Additional Navy action proponents include the Office of Naval Research, Naval Sea Systems Command, Naval Air Systems Command, the U.S. Marine Corps, The U.S. Coast Guard, as a joint lead agency is also an action proponent (hereinafter collectively referred to as the “Action Proponents”).

The Action Proponents will assess the potential environmental effects associated with ongoing and future at-sea military readiness activities conducted within the AFTT EIS/OEIS Study Area (hereafter known as the “Study Area”) beyond 2025. Military readiness activities include training and research, development, testing, and evaluation (hereafter known as “testing”). The Supplemental EIS/OEIS will include an analysis of training and testing activities using new information that became available after the release of the 2018 Final EIS/OEIS. New information includes an updated acoustic effects analysis, updated marine mammal density data, and evolving and emergent best available science. Proposed activities are consistent with those analyzed in the 2018 Final EIS/OEIS and are representative of training and testing activities the Action Proponents have been conducting in the Study Area for decades. The Study Area remains consistent with the 2018 Final EIS/OEIS with the addition of some inland waters within the Gulf of Mexico coast. The Study Area is comprised of operating areas (sea space) and warning areas (airspace) located in the Atlantic Ocean along the eastern coast of North America, the Gulf of Mexico, and portions of the Caribbean Sea, at select Navy pierside locations, within port transit channels, and some inland waters.

The purpose of the Proposed Action is to maintain a ready force, which is needed to ensure the peacetime promotion of the national security interests and prosperity of the United States and for prompt and sustained combat incident to operations at sea and to meet the needs of war, consistent with Title 10, section 8062, of the United States Code.

The Proposed Action is to conduct at-sea training and testing activities within the Study Area. Activities include the use of active sonar and explosives while employing marine species protective mitigation measures. The Proposed Action does not alter the original purpose and need as discussed in the 2018 Final EIS/OEIS.

Proposed training and testing activities are consistent with those analyzed in the 2018 Final EIS/OEIS. In the Supplemental EIS/OEIS, the DoN will analyze the proposed changes to the types and tempo of training and testing activities, accounting for the introduction of new technologies, the evolving nature of international events, advances in warfighting doctrine and procedures, and changes in the organization of vessels, aircraft, weapons systems, and personnel. In the AFTT Supplemental EIS/OEIS, the Action Proponents will reflect the compilation of training and testing activities required to fulfill the Action Proponent's military readiness requirements beyond 2025, and therefore includes the analysis of newly proposed activities and changes to previously analyzed activities.

The Supplemental EIS/OEIS will consider a No Action Alternative and two Action Alternatives that account for the types and tempo of training and testing activities that are necessary to meet future military readiness requirements (beginning in November 2025).

The Supplemental EIS will evaluate the expected social, economic and environmental effects resulting from implementing the action alternatives and the No Action Alternative. Resource areas that will be addressed include, but are not limited to: biological resources (including marine mammals and other protected species), sediments and water quality, air quality, noise, cultural resources, socioeconomic resources, and public health and safety.

As part of this process, the Action Proponents will seek the issuance of Federal regulatory permits and authorizations under the Marine Mammal Protection Act and Endangered Species Act to support on-going and future at-sea military readiness activities within the Study Area beyond 2025.

Pursuant to 40 CFR 1501.8, the Navy invited the National Marine Fisheries Service (NMFS) to be a cooperating agency in preparation of the Supplemental EIS/OEIS, in a letter dated August 18, 2022. NMFS has agreed to be a cooperating agency on the Supplemental EIS/OEIS to support and expedite the NEPA and consultation processes.

To ensure that the full range of issues related to the proposed action are addressed and all potential issues are identified, DoN invites comments and suggestions from all interested parties regarding potential alternatives, information, studies or analyses of any kind concerning impacts affecting the quality of the human environment relevant to the proposed action on behalf of all the Action Proponents. Comments may be submitted according to the instructions in the following Public Scoping Process section.

The scoping process is used to identify the full range of issues including public concerns and local issues to be considered during the development of the Draft Supplemental EIS/OEIS. Federal agencies, State agencies, local agencies, the public, and interested persons are encouraged to provide substantive comments to the DoN on environmental resources and areas of concern that the commenter believes the DoN should consider.

After the scoping period DoN will coordinate with participating and cooperating agencies to develop a Draft Supplemental EIS/OEIS. The Draft Supplemental EIS/OES is anticipated to be issued in the Fall of 2024. The Final Supplemental EIS/OEIS is anticipated to be issued in the Fall of 2025, within 24 months of the publication of this NOI.

Dated: November 7, 2023.
J.E. Koningisor,
Lieutenant Commander, Judge Advocate General's Corps, U.S. Navy, Federal Register Liaison Officer.

[FR Doc. 2023-24947 Filed 11-16-23; 8:45 am]

BILLING CODE 3810-FF-P